DEPARTMENT OF COMMERCE

National Oceanic and Atmospheric Administration

50 CFR Part 622

[Docket No. 120405260-3999-01]

RIN 0648-BC12

Fisheries of the Caribbean, Gulf of Mexico, and South Atlantic; Revisions to Dealer Permitting and Reporting Requirements for Species Managed by the Gulf of Mexico and South Atlantic Fishery Management Councils

AGENCY: National Marine Fisheries Service (NMFS), National Oceanic and Atmospheric Administration (NOAA), Commerce.

ACTION: Proposed rule; request for comments.

SUMMARY: NMFS proposes regulations to implement a Generic Amendment to the Fishery Management Plans (FMPs) in the Gulf of Mexico (Gulf) and South Atlantic Regions (Generic Dealer Amendment). The Generic Dealer Amendment amends the following FMPs: Reef Fish Resources and the Red Drum Fishery of the Gulf; the Snapper-Grouper Fishery (including wreckfish), the Golden Crab Fishery, and the Shrimp Fishery (excluding penaeid shrimp) of the South Atlantic Region; the Dolphin and Wahoo Fishery of the Atlantic; and Coastal Migratory Pelagic (CMP) Resources and the Spiny Lobster Fishery of the Gulf and South Atlantic, as prepared by the Gulf and South Atlantic Fishery Management Councils (Councils). If implemented, this rule would modify the permitting and reporting requirements for seafood dealers who first receive species managed by the Councils through the previously mentioned FMPs. These revisions would create a single dealer permit for dealers who first receive fish managed by the Councils, require both purchase and non-purchase reports to be submitted online on a weekly basis, prohibit dealers from first receiving fish from federally-permitted vessels if they are delinquent in submitting reports, and revise the sale and purchase provisions based on the new dealer permitting requirements. This rule also adds regulatory language to clarify the bag limit for private recreational vessels when a trip exceeds one calendar day. The intent of this rule is to obtain timelier purchase information from dealers to better monitor annual catch limits (ACLs) and achieve optimum yield (OY) in accordance with the requirements of the Magnuson-Stevens Fishery Conservation and Management Act (Magnuson-Stevens Act).

DATES: Written comments must be received on or before February 3, 2014.

ADDRESSES: You may submit comments on the proposed rule, identified by “NOAA-NMFS-2012-0206”, by any of the following methods:

• Electronic submissions: Submit all electronic public comments via the Federal e-Rulemaking Portal. Go to www.regulations.gov/#!docketDetail;D=NOAA-NMFS-2012-0206, click the “Comment Now!” icon, complete the required fields, and enter or attach your comments.

• Mail: Submit written comments to Rich Malinowski, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of the Generic Dealer Amendment, which includes an environmental assessment and a regulatory impact review, may be obtained from the Southeast Regional Office Web site at http://sero.nmfs.noaa.gov.

Comments regarding the burden-hour estimates or other aspects of the collection-of-information requirements contained in this proposed rule may be submitted in writing to Anik Clemens, Southeast Regional Office, NMFS, 263 13th Avenue South, St. Petersburg, FL 33701; and OMB, by email at OIRA Submission@omb.eop.gov, or by fax to 202-395-7285.

FOR FURTHER INFORMATION CONTACT: Rich Malinowski, Southeast Regional Office, NMFS, telephone 727-824-5305; email: rich.malinowski@noaa.gov.

SUPPLEMENTARY INFORMATION: NMFS and the Councils manage the fisheries for Gulf Reef Fish Resources, Gulf Red Drum, South Atlantic Snapper-Grouper (including wreckfish), South Atlantic Golden Crab, South Atlantic Rock Shrimp, Atlantic Dolphin and Wahoo, Gulf and South Atlantic CMP, and Gulf and South Atlantic Spiny Lobster under their respective FMPs. The FMPs were prepared by the Councils and are implemented through regulations at 50 CFR part 622 under the authority of the Magnuson-Stevens Act.

Background

The Magnuson-Stevens Act requires NMFS and regional fishery management councils to prevent overfishing and achieve, on a continuing basis, the OY from federally managed fish stocks. These mandates are intended to ensure fishery resources are managed for the greatest overall benefit to the nation, particularly with respect to providing food production and recreational opportunities, and protecting marine ecosystems. To further this goal, the Magnuson-Stevens Act requires fishery managers to specify their strategy to rebuild overfished stocks to a sustainable level within a certain time frame, to minimize bycatch and bycatch mortality to the extent practicable, and to establish accountability measures (AMs) for stocks to ensure ACLs are not exceeded.

The purpose of this proposed rule is to improve the timeliness and accuracy of dealer reporting, which will help achieve harvest targets. Many commercial species and species complexes have AMs that implement closures of these species or species complexes when the commercial ACLs are projected to be met. The current reporting frequency reduces the precision of the projected catches, which may result in estimates of landings that are significantly less than or greater than the ACL. Optimum yield may not be achieved when the harvest for species or species complexes is prohibited well before the ACL is met. Currently, overages have the potential to result in significant disruption in fishing behavior the following fishing year and reduce revenue and profit for fishermen. Overages also decrease the ability of stocks to rebuild when overfished, and may lead to overfishing conditions. The management measures contained in this proposed rule, including increasing the frequency of dealer reporting and requiring more permitted dealers to report, would help improve monitoring of the ACLs.

Management Measures Contained in This Proposed Rule

This proposed rule would modify the current permitting and reporting requirements for seafood dealers who first receive fish managed by the Councils through eight FMPs. The term dealer is defined at § 600.10: “Dealer means the person who first receives fish by way of purchase, barter or trade.” If fish are transported to a dealer on land, the transporter is not considered the “first receiver,” is not considered a dealer for the purpose of possession of these fish, and is not required to be a registered dealer. However, because the transporter is assumed to be an agent of the dealer to which the fish are being transported, the transporter must possess a copy of the dealer permit belonging to that dealer. If implemented, this rule would create one universal dealer permit (a Gulf and South Atlantic dealer permit), increase the frequency of dealer reporting, require dealers to report purchases and non-purchases electronically, prohibit dealers from continuing to receive fish from federally permitted vessels if they are delinquent in submitting their reports, and revise the sale and purchase provisions for certain federally managed species.

Gulf and South Atlantic Dealer Permits

Currently, there are six Federal dealer permits in the Southeast Region: Atlantic Dolphin-Wahoo, Gulf Reef Fish, South Atlantic Golden Crab, South Atlantic Rock Shrimp, South Atlantic Snapper-Grouper (excluding wreckfish), and South Atlantic Wreckfish. This rule would create a single dealer permit (a Gulf and South Atlantic dealer permit) that would be required to first receive the species currently covered by the six dealer permits, as well as Gulf and South Atlantic CMP, Gulf and South Atlantic spiny lobster, and Gulf red drum. A Gulf and South Atlantic dealer permit would not be required to first receive South Atlantic coral, South Atlantic pelagic Sargassum, Gulf coral and coral reef species, and Gulf and South Atlantic penaeid shrimp species.

The Councils exempted penaeid shrimp species from the Gulf and South Atlantic dealer permit because no ACLs have been established for these species (because they have annual life cycles). Thus, the current reporting system is adequate for determining catch and effort for these species and the administrative burden of issuing such a large number of shrimp dealer permits would outweigh the benefits of more timely shrimp dealer reports. The Councils did not include corals or pelagic Sargassum because coral harvest is limited to octocoral harvest off Florida and does not require a Federal harvest permit if landed in Florida, and there is no recorded harvest of pelagic Sargassum from Federal waters.

Frequency and Method of Dealer Reporting

Currently, federally permitted Gulf reef fish, South Atlantic snapper-grouper, and South Atlantic wreckfish dealers, and dealers with records of king mackerel or Spanish mackerel purchases from the previous year, are required to submit dealer purchase forms once every 2 weeks via fax or online through the appropriate state trip ticket reporting system. South Atlantic golden crab, rock shrimp, and Atlantic dolphin-wahoo dealers are required to submit dealer purchase forms once a month via fax or online through the appropriate state trip ticket reporting system. Reports are currently due 5 days after the end of each reporting period and must include all species received.

This rule would require federally permitted dealers to submit a detailed electronic report of all fish first received for a commercial purpose via the dealer electronic trip ticket reporting system. These electronic reports would be submitted on a weekly basis, and would be due by 11:59 p.m., local time, the Tuesday following a reporting week. A reporting week is defined as beginning at 12:01 a.m., local time, on Sunday and ending at 11:59 p.m., local time, the following Saturday. Dealers who first receive Gulf migratory king mackerel harvested by the run-around gillnet sector in the southern Florida west coast subzone would be required to submit their dealer reports for these species on a daily basis. These reports would be submitted through the dealer electronic trip ticket reporting system by 6 a.m., local time, for the previous day's harvest. In addition to reporting purchases, federally permitted dealers would also be required to submit records of no purchases via the dealer electronic trip ticket reporting system at the same frequency and via the same process as records for purchases. The Councils and NMFS would allow non-purchases to be reported up to 90 days in advance, if such an option exists in the state reporting system. If, after submitting an advance no purchase report, the dealer does receive fish, then a purchase report must be submitted for those fish.

Every state, except South Carolina, allows dealers to submit reports electronically through the dealer electronic trip ticket reporting system. South Carolina only authorizes paper-based reporting; therefore, dealers in South Carolina would need to report both by paper (according to state regulations) and electronically (according to Federal regulations). The Science and Research Director (SRD), Southeast Fisheries Science Center, NMFS, or the alternate SRD, Northeast Fisheries Science Center, NMFS (for species harvested from Virginia through Maine) receives all of the electronic dealer reports within approximately 3 days of data entry, and uses the data for ACL monitoring. Under this proposed rule dealers would continue to use their state trip ticket reporting system, except for South Carolina.

The data elements currently reported through the state trip ticket systems include the trip ticket number, dealer or processor's name, Federal permit number and state dealer license number, vessel name, U.S. Coast Guard documentation number and state registration number, vessel trip report number, date the vessel leaves the dock, date the vessel offloads the catch, date of purchase, species, amount landed, price per unit, port and state of landing, gear used, area fished, size category, and condition and disposition of the catch.

During catastrophic conditions only, this rule would allow dealers to use a paper-based system for submitting dealer reports. The Regional Administrator (RA) will determine when catastrophic conditions exist, the duration of the catastrophic conditions, and which participants are affected. The RA will provide notice of a paper-based system via notification in the Federal Register, NOAA weather radio, fishery bulletins, and other appropriate means and will authorize the use of the paper-based system for the duration of the catastrophic conditions. The paper forms will be available from NMFS.

Non-reporting

This rule would stipulate that dealers who are delinquent on submitting their reports are prohibited from receiving fish from federally-permitted vessels until they have submitted all required reports. This provision would aid in enforcement efforts to ensure dealer reports are submitted in a timely manner.

Revisions to Sale and Purchase Provisions

This rule would revise the sale and purchase requirements for federally managed species based on changes to the dealer permitting requirements. Currently, federally managed species harvested on board a federally permitted vessel may only be sold to a federally permitted dealer for that specific fishery, and only federally permitted dealers for specific fisheries may first receive those specific federally managed species. This rule would provide more flexibility to fishermen and dealers by allowing federally managed species harvested on board a federally permitted vessel to be sold or transferred to any dealer with a Gulf and South Atlantic dealer permit (except for individual fishing quota (IFQ) species which would still be required to be sold to a dealer with an IFQ dealer endorsement), and dealers with a Gulf and South Atlantic dealer permit would be allowed to first receive all federally managed species harvested in or from the EEZ by federally permitted vessels (except for IFQ species, in which case the dealer would also be required to have an IFQ dealer endorsement).

This rule would also clarify that federally permitted vessels may only sell federally managed species harvested in either Federal waters or adjoining state waters to a dealer who has a valid Gulf and South Atlantic dealer permit. This provision would place restrictions on certain federally permitted vessels that currently are able to sell their catch to non-federally permitted dealers. Through this rulemaking, vessels with commercial or charter vessel/headboat permits for CMP and vessels with Federal commercial permits for spiny lobster, including the Federal tail-separation permit, would only be allowed to sell federally managed species (including bag-limit caught CMP) that are harvested in either Federal waters or adjoining state waters to a dealer who has a valid Gulf and South Atlantic dealer permit. Also, all federally permitted vessels that harvest CMP under the bag limit, in Federal waters or adjoining state waters, would be required to sell those CMP to a dealer who has a valid Gulf and South Atlantic dealer permit.

Other Changes Contained in This Proposed Rule

Recently, NMFS has received several inquiries regarding how the bag limit is determined for private recreational vessels when a trip exceeds one calendar day. NMFS has determined that the regulations addressing this issue should be clarified. Currently, the regulations for the general provisions for bag limits, specified at 50 CFR 622.11(a), state that “Unless specified otherwise, bag limits apply to a person on a daily basis, regardless of the number of trips in a day.” However, these regulations do not provide any explanation of the number of bag limits that apply to a person on a trip that exceeds one calendar day. The original intent of the Gulf and South Atlantic Councils is clear in Amendment 1 to the FMP for the Reef Fish Resources of the Gulf of Mexico, Amendment 5 to the FMP for the Coastal Migratory Pelagic Resources of the Gulf of Mexico and South Atlantic, and Amendment 4 to the FMP for the Snapper-Grouper Fishery of the South Atlantic Region, and the accompanying final rules promulgated by NMFS (55 FR 2078, January 22, 1990; 55 FR 29370, July 19, 1990; and 56 FR 56016, October 31, 1991, respectively). Those amendments and final rules stated that unless specified otherwise, bag limits apply to a person on a daily basis, regardless of the number of trips in a day, and that a person on a trip that exceeds one calendar day is limited to a single daily bag limit. NMFS has determined that during a reorganization of these regulations in 1996 (61 FR 34930, July 3, 1996), this nuance was lost when NMFS altered the regulatory text to specify the bag and possession limits that apply to charter vessels or headboats in each FMP. However, these regulations have continued to be enforced consistent with the original intent of the FMPs: unless specified otherwise, bag limits apply to a person on a daily basis, regardless of the number of trips in a day or the duration of a trip. Therefore, to ensure that the regulations clearly reflect the original intent of the Gulf and South Atlantic Councils, this proposed rule would add the following sentence to 50 CFR 622.11(a): “Unless specified otherwise, a person is limited to a single bag limit for a trip lasting longer than one calendar day.” This change is not related to the Generic Dealer Amendment.

Proposed Implementation and Compliance Timeline for Revised Dealer Permitting and Reporting Requirements

In an effort to minimize the burden on currently permitted dealers, and provide for a smooth transition to the new Gulf and South Atlantic dealer permit, NMFS intends to take a phased approach to implementing the new requirements contained in this rule. If implemented, the Generic Dealer Amendment and the final rulemaking for the measures contained in this proposed rule would become effective 4 months after publication of the final rule. Upon publication of the final rule, dealers that currently do not have a valid Federal dealer permit for any Gulf or South Atlantic fishery could submit an application for a Gulf and South Atlantic dealer permit. Gulf and South Atlantic dealer permits would be issued within 30 days of receipt of a completed dealer permit application, so applicants should submit their application at least 30 days prior to the date upon which they need the permit to be effective. However, the Gulf and South Atlantic dealer permit requirement, and the associated reporting and recordkeeping requirements contained in this rule, would not be effective until 4 months after the publication date of the final rule. Therefore, dealers issued Gulf and South Atlantic dealer permits before the effective date of the final rule will be required to continue to purchase Gulf and South Atlantic species under existing Federal permitting requirements, and would not be able to operate under the Gulf and South Atlantic permit until after the final rule becomes effective. Likewise, these dealers will not be required to report until after the final rule becomes effective.

For those dealers who already have a valid Federal dealer permit for any Gulf or South Atlantic fishery, NMFS will treat their current permit as a Gulf and South Atlantic dealer permit as of the effective date of the final rule (4 months after publication of the final rule). These dealers will not be required to apply for a new Gulf and South Atlantic dealer permit until their existing permit(s) expire at some point after the effective date of the rule. This would mean that dealers who currently have a valid Federal dealer permit for any Gulf or South Atlantic fishery may begin to first receive all species covered under the Gulf and South Atlantic dealer permit on the effective date of the final rule (4 months after publication of the final rule), and must comply with all reporting and recordkeeping requirements contained in this rule as of the effective date of the final rule. Therefore, all federally permitted dealers (those with a current valid Federal dealer permit for any Gulf or South Atlantic fishery, and those with a new Gulf and South Atlantic dealer permit) would have to comply with the revised dealer reporting and recordkeeping requirements as of the effective date of the final rule (4 months after publication of the final rule).

Classification

Pursuant to section 304(b)(1)(A) of the Magnuson-Stevens Act, the NOAA Assistant Administrator for Fisheries (AA) has determined that this proposed rule is consistent with the eight affected FMPs, the Generic Dealer Amendment, the Magnuson-Stevens Act, and other applicable law, subject to further consideration after public comment.

This proposed rule has been determined to be not significant for purposes of Executive Order 12866.

The Chief Counsel for Regulation of the Department of Commerce certified to the Chief Counsel for Advocacy of the Small Business Administration that this proposed rule, if implemented, would not have a significant economic impact on a substantial number of small entities. The factual basis for this determination is as follows:

The purpose of this proposed rule is to change the current permit and reporting requirements for entities that purchase species managed by the Councils to ensure landings of managed fish stocks are recorded accurately and in a timely manner so that ACLs are not exceeded. The Magnuson-Stevens Act provides the statutory basis for this proposed rule.

This rule, if implemented, is expected to directly affect dealers that currently have a Federal dealer permit, dealers that do not have a Federal dealer permit that have historically purchased federally managed species and wish to continue to make these purchases, and federally permitted fishermen who would be required to sell their harvest to federally permitted dealers. There are an estimated 300 dealers that currently have a Federal dealer permit and an estimated 699 dealers that do not have a Federal dealer permit but who have historically purchased federally managed species encompassed by this proposed rule. The average annual revenue from seafood purchases for currently permitted Federal dealers over the period 2008-2010 was approximately $546,000 (nominal uninflated dollars). For the dealers without a Federal dealer permit that would be expected to be directly affected by this proposed rule, the average annual revenue over the same period was approximately $134,000 (nominal uninflated dollars). More recent summary information for both groups of dealers is not available.

Federally permitted fishermen who would be required to sell their catch to federally permitted dealers include commercial fishermen and for-hire fishermen allowed to sell bag-limit quantities of certain federally managed species. CMP species are the only species where bag-limit caught fish are allowed to be sold. The number of individual fishermen that would be newly required to sell their harvests to federally permitted dealers is unknown because many fishermen possess multiple permits to harvest different species and it is unknown how many vessels sell bag limit quantities of certain species, where allowed. As a result, only estimates of the current number of vessels holding individual permits are available at this time. On September 17, 2012, the following number of commercial permits were valid (non-expired) or renewable, where appropriate (only limited access permits are renewable): 1,496 commercial king mackerel permits; 1,794 commercial Spanish mackerel permits; 249 commercial spiny lobster permits; 322 spiny lobster tailing permits; 544 South Atlantic peneaid shrimp permits; and 1,544 Gulf shrimp permits. Estimates of the average annual revenue per commercial vessel vary by fishery. For vessels that would be newly required to sell their harvests to federally permitted dealers, estimates of their average annual revenue range from a low of approximately $28,000 (2008 dollars) for vessels with a Spanish mackerel permit to a high of approximately $208,000 (2009 dollars) for vessels with a Gulf shrimp permit. It should be noted that although this rule, if implemented, would not require a Federal dealer permit to purchase peneaid shrimp, commercial peneaid shrimp fishermen fall within the scope of this rule because they are currently allowed to sell bag-limit quantities of CMP species.

For for-hire vessels, the for-hire sector is comprised of charterboats, which charge a fee on a vessel basis, and headboats, which charge a fee on an individual angler (head) basis. On September 17, 2012, the following number of for-hire permits were valid or renewable, where appropriate: 1,526 South Atlantic charter/headboat CMP permits; 1,349 Gulf charter/headboat CMP permits; and 41 Gulf charter/headboat CMP historical captain permits. Although the for-hire permit does not distinguish between charterboats and headboats, an estimated 69 headboats operate in the Gulf and 75 headboats operate in the South Atlantic. As a result, an estimated 1,321 charterboats with CMP permits (regular or historical captain) operate in the Gulf and 1,451 charterboats with CMP permits operate in the South Atlantic. For the for-hire fleet in the Gulf, the average charterboat is estimated to earn approximately $76,000 (2009 dollars) in annual revenue, while the average headboat is estimated to earn approximately $230,000 (2009 dollars). The comparable revenues for for-hire vessels in the South Atlantic are approximately $106,000 (2009 dollars) and $188,000 (2009 dollars), respectively.

No other small entities that would be expected to be directly affected by this proposed rule have been identified.

The Small Business Administration (SBA) has established size criteria for all major industry sectors in the U.S. including seafood dealers and harvesters. A business involved in seafood purchasing and processing is classified as a small business based on either employment standards or revenue thresholds. The employment standard for a business classified as a small business is if it employs less than or equal to 500 employees for seafood processors (NAICS code 311712, fresh and frozen seafood processing) or less than or equal to 100 employees if operating as a wholesaler (NAICS code 424460, fish and seafood merchant wholesalers). The revenue threshold for a seafood business classified as a small business is if it is independently owned and operated, is not dominant in its field of operation (including its affiliates), and has combined annual receipts not in excess of $7.0 million (NAICS code 445220, fish and seafood marketing) for all affiliated operations worldwide. The revenue threshold for a business involved in the fish harvesting industry is $19.0 million (NAICS code 114111, finfish fishing) and in the for-hire fishing industry is $7.0 million (NAICS code 713990, recreational industries). The receipts threshold for finfish fishing is the result of a final rule issued by the SBA on June 20, 2013, which increased the size standard for Finfish Fishing from $4.0 to $19.0 million (78 FR 37398). The receipts thresholds for seafood businesses and for-hire businesses have not been changed as a result of recent review by the SBA. Although employment estimates are not available for the dealers that would be expected to be directly affected by this proposed action, the average revenue estimates for these entities suggest the employment thresholds would not be exceeded. Based on the information provided above, all dealers, commercial vessels, and for-hire vessels expected to be directly affected by this proposed rule are determined for the purpose of this analysis to be small business entities.

This rule, if implemented, would require a universal Federal dealer permit (a Gulf and South Atlantic dealer permit) to purchase the following federally managed species or species complexes: Atlantic dolphin-wahoo, South Atlantic golden crab, South Atlantic rock shrimp, South Atlantic snapper-grouper (including wreckfish), Gulf reef fish, Gulf and South Atlantic CMP, Gulf and South Atlantic spiny lobster, and Gulf red drum. This rule would also require that all dealers possessing a Gulf and South Atlantic dealer permit submit purchase forms of all purchases weekly (except king mackerel gillnet reports which would be required to be submitted daily) via the dealer electronic trip ticket reporting system, and that “no purchase forms” be submitted, if no purchase activity occurs, with the same frequency as purchase forms. However, if a dealer knows in advance that no purchase activity will occur for an extended period of time, a “no purchase form” may cover a period of up to 90 days, if such an option exists in the state reporting system. If after submitting an advance no purchase report the dealer does receive fish, then a purchase report must be submitted for those fish. None of these requirements would be expected to require special professional skills. Permit application and purchase reporting are standard skills required for all dealers to satisfy current Federal or state requirements. As a result, all affected small entities would be expected to already have staff with the appropriate skills and training to meet these requirements.

This rule, if implemented, would result in four primary outcomes. Currently, separate Federal dealer permits are required to purchase different federally managed species or species groups. The first primary outcome of this rule would be that dealers would only be required to obtain a single universal Federal dealer permit to purchase the federally managed species encompassed by this rule. Current Federal dealer permit application costs, not including time costs and postage, are $50 for the first permit and $12.50 for each additional permit. Some current Federal permit holders possess as many as six dealer permits, which cost a total of $112.50 in application fees. Consolidating the Federal dealer permits into a single universal Federal dealer permit would be estimated to save current permit holders collectively up to $6,700 in application fees. Individually, the application fee savings for these entities would range from $12.50 (for entities holding two permits) to $62.50 (for entities holding six permits). The estimated average annual revenue for these entities with at least one Federal dealer permit is approximately $546,000. The expected permit application savings that would arise from the proposed permit consolidation would, therefore, constitute a minor reduction in business expenses relative to average annual revenue.

The second primary outcome of this rule would be that dealers that do not possess a Federal dealer permit would be required to obtain a universal Federal dealer permit to continue to purchase certain federally managed species. An estimated 699 dealers that have historically purchased these federally managed species but do not have any Federal dealer permit would be required to obtain a universal Federal dealer permit in order to continue to purchase these species. The estimated cost to obtain this permit, including postage and the time cost of preparation, is $72.42 ($50 for the permit application, $21.97 time cost, and $0.45 postage). The total cost across all 699 entities would be approximately $50,600. The average annual revenue for these entities is estimated to be approximately $134,000. The expected permit application cost per entity would, therefore, constitute a minor increase in business expenses relative to average annual revenue.

The third primary outcome of this rule would be that purchases must be reported by federally permitted dealers weekly (except Gulf king mackerel gillnet purchases must be reported daily), reporting of no purchase activity would be required to be submitted with the same frequency as purchases, though purchase inactivity could be reported in advance for up to 90 days, and all reports must be submitted electronically via the dealer electronic trip ticket reporting system. If a dealer does not submit the required reports, they would be prohibited from continuing to purchase fish from federally permitted vessels until the reporting requirements are met. Both reporting requirements (frequency and method) could be modified under decision by the RA should catastrophic conditions arise, preventing normal business operation. All affected entities currently operate in states that require reporting and allow electronic reporting (except South Carolina), but none of these states require electronic reporting. All respective states except South Carolina accept electronic reporting to satisfy state reporting requirements. If a South Carolina dealer submits a report electronically, the dealer must also submit a paper report to satisfy the state reporting requirements.

Electronic reporting would require the affected entity to have a computer, internet services, and the necessary skill to compile and submit reports. The number of estimated 699 dealers that would be required to obtain a Gulf and South Atlantic dealer permit would not already have these as part of their routine business operation is unknown. The use of computers and the internet, however, is commonplace and a vital tool in business management. According to the SBA, in 2010, approximately 94 percent of businesses used computers and 95 percent of these had internet service. As a result, the majority of the affected entities would not be expected to incur new expenditures associated with computer and internet access as a result of this proposed rule. For those entities that would need to incur these new expenditures, these expenditures would not be expected to constitute a significant increase in their business expenses. Computers are readily available at a cost of less than $750 and internet services under $100 per month would be expected to be available in most locations. As previously discussed, the average annual revenue for these entities is $134,000.

Any affected entity in South Carolina would be required to report twice, once electronically to satisfy the requirements of this proposed rule, and once by paper to satisfy the state reporting requirements. This would be expected to affect an estimated 38 entities, or approximately 4 percent of the total number of dealers expected to be affected by this proposed rule (999 total dealers, or 300 dealers with current Federal permits and 699 dealers expected to obtain a required Federal permit as a result of this proposed rule).

In addition to potentially requiring some entities to acquire computers and internet service, this proposed rule would increase the reporting frequency for 699 dealers, which are currently only required to report monthly. Although the potential economic effects of this requirement cannot be quantified with available data, increasing the frequency of reporting would not be expected to result in a significant increase in operating costs to any business entity. To satisfy state reporting requirements, transactions by seafood dealers with fishermen require the generation of a trip ticket for each transaction and subsequent submission of these tickets to the state reporting system. As a result of cooperative agreements, Federal data collection entities have direct access to this information after it is submitted to the state systems. After the data are entered into the dealers' record system (computer or similar electronic device), submission of these tickets simply requires hitting the send button. Increasing the frequency of reporting, therefore, would simply require hitting the send button weekly (or daily) rather than monthly. For dealers that may initially create paper trip tickets, it is possible that some may not enter their data on a daily or continuous basis. For these entities, the proposed weekly reporting may require altering their business practices, with associated possible increases in business costs, to meet the proposed requirements. However, these instances would be expected to be the exception rather than the norm, and any increase in business expenses would be expected to be minor.

With respect to the implications on dealers of non-compliance with the proposed reporting requirements, the prohibition on the continued purchase of commercially harvested fish from federally permitted vessels could severely affect the profits of the dealer. However, compliance with the proposed reporting requirements would be completely within the control of the individual dealer. Because avoiding such situations would be expected to be in the best economic interests of each dealer, these situations would be expected to occur infrequently and be of limited duration.

The fourth primary outcome of this rule would be that federally permitted fishermen would be required to sell their harvest to federally permitted dealers. Because of the low cost of the Federal dealer permit ($50) and the absence of a limit on the number of permits issued, most dealers that do not currently possess a Federal dealer permit would be expected to obtain a permit to maintain their product flow and business relationships with current client fishermen and enhance their opportunity to purchase fish from a wider variety of vessels. As a result, few if any fishermen would be expected to need to change dealers, incur increased costs associated with changing dealers, or encounter reduced prices if access to qualified dealers is limited. As a result, the direct economic effects associated with this requirement would not be expected to be significant.

Based on the discussion above, NMFS determines that this rule, if implemented, would not have a significant economic effect on a substantial number of small entities. As a result, an initial regulatory flexibility analysis is not required and none has been prepared.

Notwithstanding any other provision of law, no person is required to respond to, nor shall a person be subject to a penalty for failure to comply with, a collection-of-information subject to the requirements of the Paperwork Reduction Act (PRA), unless that collection-of-information displays a currently valid Office of Management and Budget (OMB) control number.

This proposed rule contains collection-of-information requirements subject to the PRA. NMFS is revising the collection-of-information requirements under OMB control number 0648-0013 and 0648-0205. NMFS estimates the requirement for dealers to report electronically would decrease the overall dealer reporting burden under OMB control number 0648-0013, because dealers would be reporting all species through the electronic dealer trip ticket reporting system offered in each state, and NMFS would receive these data from the states. This would eliminate a duplication of effort on the dealers who were reporting similar information to the states and to NMFS (except for South Carolina, which still requires paper reporting).

NMFS estimates the requirement for dealers to report more frequently (weekly instead of semi-monthly or monthly) would not create more burden on dealers, because the dealers would still be reporting the same amount of information, they would just be transmitting the data more frequently.

NMFS estimates the reporting burden under OMB control number 0648-0205 would increase because more dealers would be required to apply for a Federal dealer permit through this rulemaking (approximately 1,000 entities, including 300 current dealers and 700 new dealers). NMFS estimates the requirement for dealers to complete the Federal Permit Application for an Annual Dealer Permit to obtain a Gulf and South Atlantic Dealer Permit would average 20 minutes per response (for new permits and renewals). NMFS estimates the requirement to complete “doing business as” (DBA) names and check a box indicating whether or not a business is active with respect to its secretary of state on the Federal Permit Application for an Annual Dealer Permit under OMB control number 0648-0205 would average 1 minute per response.

Finally, NMFS estimates the requirement for dealers to complete their email address on the Federal Permit Application for an Annual Dealer Permit under OMB control number 0648-0205 would average 1 minute per response. These estimates of the public reporting burden include the time for reviewing instructions, gathering and maintaining the data needed, and completing and reviewing the collection-of-information.

These requirements have been submitted to OMB for approval. NMFS seeks public comment regarding: Whether this proposed collection-of-information is necessary for the proper performance of the functions of the agency, including whether the information will have practical utility; the accuracy of the burden estimate; ways to enhance the quality, utility, and clarity of the information to be collected; and ways to minimize the burden of the collection-of-information, including through the use of automated collection techniques or other forms of information technology. Send comments regarding the burden estimate or any other aspect of the collection-of-information requirement, including suggestions for reducing the burden, to NMFS and to OMB (see ADDRESSES).

List of Subjects in 50 CFR Part 622

Dealer, Fisheries, Fishing, Gulf of Mexico, Reporting and recordkeeping requirements, South Atlantic.

Dated: December 23, 2013.
Alan D. Risenhoover,
Director, Office of Sustainable Fisheries, performing the functions and duties of the Deputy Assistant Administrator for Regulatory Programs, National Marine Fisheries Service.

For the reasons set out in the preamble, 50 CFR part 622 is proposed to be amended as follows:

PART 622—FISHERIES OF THE CARIBBEAN, GULF OF MEXICO, AND SOUTH ATLANTIC

1. The authority citation for part 622 continues to read as follows:

Authority: 16 U.S.C. 1801 et seq.

2. In § 622.2, the definition “Reporting week” is added in alphabetical order to read as follows:

§ 622.2 Definitions and acronyms.

* * * * *

Reporting week means the period of time beginning at 12:01 a.m., local time, on Sunday and ending at 11:59 p.m., local time, the following Saturday.

* * * * *

3. In § 622.4, the third sentence in paragraph (h) is revised to read as follows:

§ 622.4 Permits—general.

* * * * *

(h) * * * In addition, a copy of the dealer's permit must accompany each vehicle that is used to pick up from a fishing vessel fish harvested from the EEZ. * * *

* * * * *

4. In § 622.5, paragraph (c) is added to read as follows:

§ 622.5 Recordkeeping and reporting—general.

* * * * *

(c) Dealers—(1) Permitted Gulf and South Atlantic dealers. (i) A person issued a Gulf and South Atlantic dealer permit must submit a detailed electronic report of all fish first received for a commercial purpose within the time period specified in this paragraph, via the dealer electronic trip ticket reporting system. These electronic reports must be submitted at weekly intervals via the dealer electronic trip ticket reporting system by 11:59 p.m., local time, the Tuesday following a reporting week. If no fish were received during a reporting week, an electronic report so stating must be submitted for that reporting week. Dealers must submit electronic reports for Gulf migratory group king mackerel harvested by the run-around gillnet sector in the southern Florida west coast subzone daily via the dealer electronic trip ticket reporting system by 6 a.m., local time, for the previous day's harvest. Until the commercial ACL (commercial quota) for the run-around gillnet sector for Gulf migratory group king mackerel is reached, if no king mackerel were received, an electronic report so stating must be submitted for that day.

(ii) Dealers must retain either the paper forms or electronic reports for at least 1 year after the submittal date and must provide such records for inspection upon the request of an authorized officer or the SRD.

(iii) During catastrophic conditions only, the ACL monitoring program provides for use of paper-based components for basic required functions as a backup. The RA will determine when catastrophic conditions exist, the duration of the catastrophic conditions, and which participants or geographic areas are deemed affected by the catastrophic conditions. The RA will provide timely notice to affected participants via publication of notification in the Federal Register, NOAA weather radio, fishery bulletins, and other appropriate means and will authorize the affected participants' use of paper-based components for the duration of the catastrophic conditions. The paper forms will be available from NMFS. During catastrophic conditions, the RA has the authority to waive or modify reporting time requirements.

(iv) Gulf and South Atlantic dealers are not authorized to first receive Gulf reef fish, Gulf red drum, South Atlantic golden crab, South Atlantic snapper-grouper, South Atlantic wreckfish, South Atlantic rock shrimp, coastal migratory pelagic fish, spiny lobster, or Atlantic dolphin or wahoo from a federally-permitted vessel if the required reports have not been submitted and received by NMFS according to the reporting requirements under this section. Delinquent reports automatically result in a Gulf and South Atlantic dealer becoming ineligible to first receive such fish, regardless of any notification to dealers by NMFS. Gulf and South Atlantic dealers who become ineligible to receive such fish due to delinquent reports are authorized to first receive such fish only after all required and delinquent reports have been submitted and received by NMFS according to the reporting requirements under this section.

(2) Non-permitted dealers. See § 622.51 for a person who purchases Gulf shrimp from a vessel, or person, that fishes for shrimp in the Gulf EEZ or in adjoining state waters, or that lands shrimp in an adjoining state.

5. In § 622.11, a sentence is added after the second sentence in paragraph (a)(1) to read as follows:

§ 622.11 Bag and possession limits—general applicability.

* * * * *

(a) * * *

(1) * * * Unless specified otherwise, a person is limited to a single bag limit for a trip lasting longer than one calendar day. * * *

* * * * *

6. In § 622.13, paragraph (h) is added to read as follows:

§ 622.13 Prohibitions—general.

* * * * *

(h) First receive fish from federally-permitted vessels if the required reports have not been submitted in accordance with § 622.5(c).

* * * * *

7. In § 622.20, paragraph (c)(1) is revised to read as follows:

§ 622.20 Permits and endorsements.

* * * * *

(c) * * *

(1) Permits. For a dealer to first receive Gulf reef fish harvested in or from the EEZ, a Gulf and South Atlantic dealer permit must be issued to the dealer.

* * * * *

8. In § 622.21, paragraph (b)(2) is revised to read as follows:

§ 622.21 Individual fishing quota (IFQ program) for Gulf red snapper.

* * * * *

(b) * * *

(2) Gulf IFQ dealer endorsements. In addition to the requirement for a Gulf and South Atlantic dealer permit as specified in § 622.20(c)(1), for a dealer to first receive red snapper subject to the IFQ program for Gulf red snapper, as specified in paragraph (a)(1) of this section, or for a person aboard a vessel with a Gulf IFQ vessel account to sell such red snapper directly to an entity other than a dealer, such persons must also have a Gulf IFQ dealer endorsement. A dealer with a Gulf and South Atlantic dealer permit can download a Gulf IFQ dealer endorsement from the NMFS IFQ Web site at ifq.sero.nmfs.noaa.gov. If such persons do not have an IFQ online account, they must first contact IFQ Customer Service at 1-866-425-7627 to obtain information necessary to access the IFQ Web site and establish an IFQ online account. There is no fee for obtaining this endorsement. The endorsement remains valid as long as the Gulf and South Atlantic dealer permit remains valid and the dealer is in compliance with all Gulf reef fish and IFQ reporting requirements, has paid all IFQ fees required, and is not subject to any sanctions under 15 CFR part 904. The endorsement is not transferable.

* * * * *

9. In § 622.22, paragraph (b)(2) is revised to read as follows:

§ 622.22 Individual fishing quota (IFQ program) for Gulf groupers and tilefishes.

* * * * *

(b) * * *

(2) Gulf IFQ dealer endorsements. In addition to the requirement for a Gulf and South Atlantic dealer permit as specified in § 622.20(c)(1), for a dealer to first receive groupers and tilefishes subject to the IFQ program for groupers and tilefishes, as specified in paragraph (a)(1) of this section, or for a person aboard a vessel with a Gulf IFQ vessel account to sell such groupers and tilefishes directly to an entity other than a dealer, such persons must also have a Gulf IFQ dealer endorsement. A dealer with a Gulf and South Atlantic dealer permit can download a Gulf IFQ dealer endorsement from the NMFS IFQ Web site at ifq.sero.nmfs.noaa.gov. If such persons do not have an IFQ online account, they must first contact IFQ Customer Service at 1-866-425-7627 to obtain information necessary to access the IFQ Web site and establish an IFQ online account. There is no fee for obtaining this endorsement. The endorsement remains valid as long as the Gulf and South Atlantic dealer permit remains valid and the dealer is in compliance with all Gulf reef fish and IFQ reporting requirements, has paid all IFQ fees required, and is not subject to any sanctions under 15 CFR part 904. The endorsement is not transferable.

* * * * *

10. Section 622.25 is revised to read as follows:

§ 622.25 Exemptions for Gulf groundfish trawling.

Gulf groundfish trawling means fishing in the Gulf EEZ by a vessel that uses a bottom trawl, the unsorted catch of which is ground up for animal feed or industrial products.

(a) Other provisions of this part notwithstanding, the owner or operator of a vessel trawling for Gulf groundfish is exempt from the following requirements and limitations for the vessel's unsorted catch of Gulf reef fish:

(1) The requirement for a valid commercial vessel permit for Gulf reef fish in order to sell Gulf reef fish.

(2) Minimum size limits for Gulf reef fish.

(3) Bag limits for Gulf reef fish.

(4) The prohibition on sale of Gulf reef fish after a quota or ACL closure.

(b) Other provisions of this part notwithstanding, a dealer in a Gulf state is exempt from the requirement for a Gulf and South Atlantic dealer permit to receive Gulf reef fish harvested from the Gulf EEZ by a vessel trawling for Gulf groundfish.

11. In § 622.26, paragraph (c) is revised to read as follows:

§ 622.26 Recordkeeping and Reporting.

* * * * *

(c) Dealers. (1) A dealer who first receives Gulf reef fish must maintain records and submit information as specified in § 622.5(c).

(2) The operator of a vehicle that is used to pick up from a fishing vessel Gulf reef fish must maintain a record containing the name of each fishing vessel from which reef fish on the vehicle have been received. The vehicle operator must provide such record for inspection upon the request of an authorized officer.

12. In § 622.40, paragraphs (b) and (c) are revised to read as follows:

§ 622.40 Restrictions on sale/purchase.

* * * * *

(b) A Gulf reef fish harvested in or from the EEZ or adjoining state waters by a vessel that has a valid commercial vessel permit for Gulf reef fish may be sold or transferred only to a dealer who has a valid Gulf and South Atlantic dealer permit, as required under § 622.20(c)(1).

(c) A Gulf reef fish harvested in or from the EEZ may be first received by a dealer who has a valid Gulf and South Atlantic dealer permit, as required under § 622.20(c)(1), only from a vessel that has a valid commercial vessel permit for Gulf reef fish.

13. Subpart E is revised to read as follows:

Subpart E—Red Drum Fishery of the Gulf of Mexico
Sec.
622.90 Permits.
622.91 Recordkeeping and reporting.
622.92 Prohibited species.
622.93 Adjustment of management measures.

Subpart E—Red Drum Fishery of the Gulf of Mexico

§ 622.90 Permits.

(a) Dealer permits and conditions—(1) Permits. For a dealer to first receive Gulf red drum harvested in or from the EEZ, a Gulf and South Atlantic dealer permit must be issued to the dealer.

(2) State license and facility requirements. To obtain a dealer permit, the applicant must have a valid state wholesaler's license in the state(s) where the dealer operates, if required by such state(s), and must have a physical facility at a fixed location in such state(s).

(b) Permit procedures. See § 622.4 for information regarding general permit procedures including, but not limited to application, fees, duration, transfer, renewal, display, sanctions and denials, and replacement.

§ 622.91 Recordkeeping and reporting.

(a) Dealers. A dealer who first receives Gulf red drum must maintain records and submit information as specified in § 622.5(c).

(b) [Reserved]

§ 622.92 Prohibited species.

(a) General. The harvest and possession restrictions of this section apply without regard to whether the species is harvested by a vessel operating under a commercial vessel permit. The operator of a vessel that fishes in the EEZ is responsible for the limit applicable to that vessel.

(b) Red drum. Red drum may not be harvested or possessed in or from the Gulf EEZ. Such fish caught in the Gulf EEZ must be released immediately with a minimum of harm.

§ 622.93 Adjustment of management measures.

In accordance with the framework procedures of the FMP for the Red Drum Fishery of the Gulf of Mexico, the RA may establish or modify the following items:

(a) Reporting and monitoring requirements, permitting requirements, bag and possession limits (including a bag limit of zero), size limits, vessel trip limits, closed seasons or areas and reopenings, annual catch limits (ACLs), annual catch targets (ACTs), quotas (including a quota of zero), accountability measures (AMs), MSY (or proxy), OY, TAC, management parameters such as overfished and overfishing definitions, gear restrictions (ranging from regulation to complete prohibition), gear markings and identification, vessel markings and identification, ABC and ABC control rules, rebuilding plans, sale and purchase restrictions, transfer at sea provisions, and restrictions relative to conditions of harvested fish (maintaining fish in whole condition, use as bait).

(b) [Reserved]

14. In § 622.170, paragraph (c)(1) is revised to read as follows:

§ 622.170 Permits and endorsements.

* * * * *

(c) * * *

(1) Permits. For a dealer to first receive South Atlantic snapper-grouper (including wreckfish) harvested in or from the EEZ, a Gulf and South Atlantic dealer permit must be issued to the dealer.

* * * * *

15. In § 622.172, paragraphs (b), (c)(6), (c)(7), and (d)(4) are revised to read as follows:

§ 622.172 Wreckfish individual transferable quota (ITQ) system.

* * * * *

(b) List of wreckfish shareholders. Annually, on or about March 1, the RA will provide each wreckfish shareholder with a list of all wreckfish shareholders and their percentage shares, reflecting share transactions on forms received through February 15.

(c) * * *

(6) The “Fish House” part of each such coupon must be given to the dealer to whom the wreckfish are transferred in amounts totaling the eviscerated weight of the wreckfish transferred to that dealer. Wreckfish may be transferred only to a Gulf and South Atlantic dealer permit holder, as required under § 622.170(c)(1).

(7) A dealer may first receive wreckfish only from a vessel for which a commercial permit for wreckfish has been issued, as required under § 622.170(a)(2). A dealer must receive the “Fish House” part of ITQ coupons in amounts totaling the eviscerated weight of the wreckfish received; enter the permit number of the vessel from which the wreckfish were received, enter the date the wreckfish were received, enter the dealer's permit number, and sign each such “Fish House” part; and submit all such parts with the electronic dealer reports required by § 622.5(c).

* * * * *

(d) * * *

(4) If a wreckfish harvested by a vessel that has been issued a commercial vessel permit for South Atlantic snapper-grouper and a commercial vessel permit for wreckfish is to be offloaded at a location other than a fixed facility of a dealer who holds a Gulf and South Atlantic dealer permit, as required under § 622.170(c)(1), the wreckfish shareholder or the vessel operator must advise the NMFS Office for Law Enforcement, Southeast Region, St. Petersburg, FL, by telephone (727-824-5344), of the location not less than 24 hours prior to offloading.

16. In § 622.176, paragraph (c) is revised to read as follows:

§ 622.176 Recordkeeping and reporting.

* * * * *

(c) Dealers. (1) A dealer who first receives South Atlantic snapper-grouper (including wreckfish) must maintain records and submit information as specified in § 622.5(c).

(2) On demand, a dealer who has been issued a Gulf and South Atlantic dealer permit, as required under § 622.170(c)(1), must make available to an authorized officer all records of offloadings, purchases, or sales of South Atlantic snapper-grouper (including wreckfish).

* * * * *

17. In § 622.192, paragraphs (b) and (c) are revised to read as follows:

§ 622.192 Restrictions on sale/purchase.

* * * * *

(b) South Atlantic snapper-grouper harvested in or from the EEZ or adjoining state waters by a vessel that has a valid commercial vessel permit for South Atlantic snapper-grouper may be sold or transferred only to a dealer who has a valid Gulf and South Atlantic dealer permit, as required under § 622.170(c)(1).

(c) South Atlantic snapper-grouper harvested in or from the EEZ may be first received by a dealer who has a valid Gulf and South Atlantic dealer permit, as required under § 622.170(a), only from a vessel that has a valid commercial permit for South Atlantic snapper-grouper.

* * * * *

18. In § 622.200, the heading of paragraph (c) and paragraph (c)(1) are revised to read as follows:

§ 622.200 Permits.

* * * * *

(c) Dealer permits and conditions—(1) Permits. For a dealer to first receive South Atlantic rock shrimp harvested in or from the EEZ, a Gulf and South Atlantic dealer permit must be issued to the dealer.

* * * * *

19. In § 622.203, paragraph (b) is revised to read as follows:

§ 622.203 Recordkeeping and reporting.

* * * * *

(b) South Atlantic rock shrimp dealers. (1) A dealer who first receives South Atlantic rock shrimp must maintain records and submit information as specified in § 622.5(c).

(2) On demand, a dealer who has been issued a Gulf and South Atlantic dealer permit, as required under § 622.200(c)(1), must make available to an authorized officer all records of offloadings, purchases, or sales of rock shrimp.

20. In § 622.209, paragraphs (a)(2) and (3) are revised to read as follows:

§ 622.209 Restrictions on sale/purchase.

(a) * * *

(2) Rock shrimp harvested in or from the EEZ or adjoining state waters by a vessel that has a valid commercial vessel permit for South Atlantic rock shrimp may be sold or transferred only to a dealer who has a valid Gulf and South Atlantic dealer permit, as required under § 622.200(c)(1).

(3) Rock shrimp harvested in or from the EEZ may be first received by a dealer who has a valid Gulf and South Atlantic dealer permit, as required under § 622.200(c)(1), only from a vessel that has a valid commercial vessel permit for rock shrimp.

* * * * *

21. In § 622.240, paragraph (b)(1) is revised to read as follows:

§ 622.240 Permits.

* * * * *

(b) * * *

(1) Permits. For a dealer to first receive South Atlantic golden crab harvested in or from the EEZ, a Gulf and South Atlantic dealer permit must be issued to the dealer.

* * * * *

22. In § 622.242, paragraph (b) is revised to read as follows:

§ 622.242 Recordkeeping and reporting.

* * * * *

(b) Dealers. A dealer who first receives South Atlantic golden crab must maintain records and submit information as specified in § 622.5(c).

23. In § 622.250, paragraphs (c) and (d) are revised to read as follows:

§ 622.250 Restrictions on sale/purchase.

* * * * *

(c) A golden crab harvested in or from the EEZ or adjoining state waters by a vessel that has a valid commercial vessel permit for South Atlantic golden crab may be sold or transferred only to a dealer who has a valid Gulf and South Atlantic dealer permit, as required under § 622.240(b)(1).

(d) A golden crab harvested in or from the EEZ may be first received by a dealer who has a valid Gulf and South Atlantic dealer permit, as required under § 622.240(b)(1), only from a vessel that has a valid commercial vessel permit for golden crab.

24. In § 622.270, the heading of paragraph (d) and paragraph (d)(1) are revised to read as follows:

§ 622.270 Permits.

* * * * *

(d) Dealer permits and conditions—(1) Permits. For a dealer to first receive Atlantic dolphin or wahoo harvested in or from the EEZ, a Gulf and South Atlantic dealer permit must be issued to the dealer.

* * * * *

25. In § 622.271, paragraph (c) is revised to read as follows:

§ 622.271 Recordkeeping and reporting.

* * * * *

(c) Dealers. (1) A dealer who first receives Atlantic dolphin or wahoo must maintain records and submit information as specified in § 622.5(c).

(2) Alternate SRD. For the purpose of § 622.5(c), in the states from Maine through Virginia, or in the waters off those states, “SRD” means the Science and Research Director, Northeast Fisheries Science Center, NMFS, or a designee.

(3) On demand, a dealer who has been issued a Gulf and South Atlantic dealer permit, as required under § 622.270(d)(1), must make available to an authorized officer all records of offloadings, purchases, or sales of Atlantic dolphin or wahoo.

26. Section 622.279 is revised to read as follows:

§ 622.279 Restrictions on sale/purchase.

(a) Dolphin or wahoo harvested in or from the Atlantic EEZ or adjoining state waters by a vessel that has a valid commercial vessel permit for Atlantic dolphin and wahoo, as required under § 622.270(a)(1), or by a vessel authorized a 200-lb (91-kg) trip limit for dolphin or wahoo, as specified in § 622.278(a)(2), may be sold or transferred only to a dealer who has a valid Gulf and South Atlantic dealer permit, as required under § 622.270(d)(1).

(b) In addition to the provisions of paragraph (a)(1) of this section, a person may not sell dolphin or wahoo possessed under the recreational bag limit harvested in the Atlantic EEZ or adjoining state waters by a vessel while it is operating as a charter vessel or headboat. A dolphin or wahoo harvested or possessed by a vessel that is operating as a charter vessel or headboat with a Federal charter vessel/headboat permit for Atlantic dolphin and wahoo may not be purchased or sold if harvested in or from the Atlantic EEZ or adjoining state waters.

(c) Dolphin or wahoo harvested in or from the Atlantic EEZ may be first received only by a dealer who has a valid Gulf and South Atlantic dealer permit, as required under § 622.270(d)(1), and only from a vessel authorized to sell dolphin and wahoo under paragraph (a)(1) of this section.

(b) [Reserved]

27. In § 622.370, paragraph (c) is revised and paragraph (d) is added to read as follows:

§ 622.370 Permits.

* * * * *

(c) Dealer permits and conditions—(1) Permits. For a dealer to first receive Gulf or South Atlantic coastal migratory pelagic fish harvested in or from the EEZ, a Gulf and South Atlantic dealer permit must be issued to the dealer.

(2) State license and facility requirements. To obtain a dealer permit, the applicant must have a valid state wholesaler's license in the state(s) where the dealer operates, if required by such state(s), and must have a physical facility at a fixed location in such state(s).

(d) Permit procedures. See § 622.4 for information regarding general permit procedures including, but not limited to application, fees, duration, transfer, renewal, display, sanctions and denials, and replacement.

28. In § 622.374, paragraph (c) is revised to read as follows:

§ 622.374 Recordkeeping and reporting.

* * * * *

(c) Dealers. (1) A dealer who first receives Gulf or South Atlantic coastal migratory pelagic fish must maintain records and submit information as specified in § 622.5(c).

(2) Alternate SRD. For the purpose of § 622.5(c), in the states from New York through Virginia, or in the waters off those states, “SRD” means the Science and Research Director, Northeast Fisheries Science Center, NMFS, or a designee.

29. In § 622.386, paragraphs (b) and (c) are added to read as follows:

§ 622.386 Restrictions on sale/purchase.

* * * * *

(b) Coastal migratory pelagic fish harvested in or from the EEZ or adjoining state waters by a vessel that has a valid Federal commercial vessel permit or a charter vessel/headboat permit may be sold or transferred only to a dealer who has a valid Gulf and South Atlantic dealer permit, as required under § 622.370(c)(1).

(c) Coastal migratory pelagic fish harvested in or from the Gulf or South Atlantic EEZ may be first received by a dealer who has a valid Gulf and South Atlantic dealer permit, as required under § 622.370(c)(1), only from a vessel that has a valid Federal commercial vessel permit, as required under § 622.370(a), or a charter vessel/headboat permit for coastal migratory pelagic fish, as required under § 622.370(b).

30. In § 622.400, the paragraph (a)(5) is added to read as follows:

§ 622.400 Permits.

(a) * * *

(5) Dealer permits and conditions—(i) Permits. For a dealer to first receive Gulf or South Atlantic spiny lobster harvested in or from the EEZ, a Gulf and South Atlantic dealer permit must be issued to the dealer.

(ii) State license and facility requirements. To obtain a dealer permit, the applicant must have a valid state wholesaler's license in the state(s) where the dealer operates, if required by such state(s), and must have a physical facility at a fixed location in such state(s).

* * * * *

31. Add § 622.401 to read as follows:

§ 622.401 Recordkeeping and reporting.

(a) Dealers. A dealer who first receives Gulf or South Atlantic spiny lobster must maintain records and submit information as specified in § 622.5(c).

(b) [Reserved]

32. Add § 622.416 to subpart R to read as follows:

§ 622.416 Restrictions on sale/purchase.

(a) Spiny lobster harvested in or from the EEZ or adjoining state waters by a vessel that has a valid Federal commercial vessel permit for spiny lobster, as required under § 622.400(a)(1), or a valid Federal tail-separation permit for spiny lobster, as required under § 622.400(a)(2), may be sold or transferred only to a dealer who has a valid Gulf and South Atlantic dealer permit, as required under § 622.400(a)(5).

(b) Spiny lobster harvested in or from the EEZ may be first received by a dealer who has a valid Gulf and South Atlantic dealer permit, as required under § 622.400(a)(5), only from a vessel that has a valid Federal commercial vessel permit for spiny lobster or a valid Federal tail-separation permit for spiny lobster.

[FR Doc. 2013-31077 Filed 12-31-13; 8:45 am]

BILLING CODE 3510-22-P